FEDERAL RESERVE SYSTEM

Agency Information Collection Activities: Announcement of Board Approval Under Delegated Authority and Submission to OMB

SUMMARY:

Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Board Clearance Officer — Cynthia Ayouch—Division of Research and Statistics, Board of Governors of the Federal Reserve System, Washington, DC 20551 (202-452-3829).

OMB Desk Officer—Shagufta Ahmed—Office of Information and Regulatory Affairs, Office of Management and Budget, New Executive Office Building, Room 10235, Washington, DC 20503.

Final approval under OMB delegated authority of the extension for three years, without revision, of the following reports:

1. Report title: The Report of Net Debit Cap.

Agency form number: FR 2226.

OMB control number: 7100-0217.

Frequency: Annual.

Reporters: Depository institutions, Edge and agreement corporations, U.S. branches and agencies of foreign banks.

Estimated annual reporting hours: 1,298 hours.

Estimated average hours per response: 1.0 hour.

Number of respondents: 1,298.

General description of report: This information collection is mandatory (12 U.S.C. 248(i), 248-1, and 464). The information submitted by respondents for the payments system risk reduction program is exempt from disclosure under exemption (b)(4) of the Freedom of Information Act (FOIA), which exempts from disclosure “trade secrets and commercial or financial information obtained from a person and privileged or confidential.” (5 U.S.C. 552(b)(4)). In addition, information reported in connection with the second and third resolutions may be protected under Section (b)(8) of FOIA, to the extent that such information is based on the institution's CAMELS rating, and thus is related to examination reports prepared by, on behalf of, or for the use of an agency responsible for the regulation or supervision of financial institutions (5 U.S.C. 552(b)(8)).

Abstract: Federal Reserve Banks collect these data annually to provide information that is essential for their administration of the Federal Reserve's Payments System Risk (PSR) policy. The reporting panel includes all financially healthy depository institutions with access to the discount window. The Report of Net Debit Cap comprises three resolutions, which are filed by a depository institution's board of directors depending on its needs. The first resolution is used to establish a de minimis net debit cap and the second resolution is used to establish a self-assessed net debit cap. The third resolution is used to establish simultaneously a self-assessed net debit cap and maximum daylight overdraft capacity. Copies of the model resolutions are located in Appendix B, of the PSR policy, that can be found at http://www.federalreserve.gov/paymentsystems/psr_relpolicies.htm.

Current Actions: On October 14, 2010, the Federal Reserve published a notice in the Federal Register (75 FR 63181) requesting public comment for 60 days on the extension, without revision, of this information collection. The comment period for this notice expired on December 13, 2010. The Federal Reserve did not receive any comments.

2. Report title: Statement of Purpose for an Extension of Credit by a Creditor.

Agency form number: FR T-4.

OMB control number: 7100-0019.

Frequency: On occasion.

Reporters: Brokers and dealers.

Estimated annual reporting hours: 459 hours.

Estimated average hours per response: 10 minutes.

Number of respondents: 135.

General description of report: This information collection is mandatory and authorized by section 7 of the '34 Act (15 U.S.C. 78g). In addition, the FR T-4 is required by Section 220.6 of Regulation T (12 CFR 220.6). The FR T-4 data are not submitted to the Federal Reserve System and, as such, no issue of confidentiality arises.

Abstract: The Securities Exchange Act of 1934 authorizes the Federal Reserve to regulate securities credit extended by brokers and dealers, banks, and other lenders. The FR T-4 is a purpose statement for brokers and dealers. The purpose statement is a recordkeeping requirement for brokers and dealers to document the purpose of their loans secured by margin stock. Margin stock is defined as (1) stocks that are registered on a national securities exchange or any over-the-counter security designated for trading in the National Market System, (2) debt securities (bonds) that are convertible into margin stock, and (3) shares of most mutual funds.

Current Actions: On October 14, 2010, the Federal Reserve published a notice in the Federal Register (75 FR 63181) requesting public comment for 60 days on the extension, without revision, of three reports that collect information on certain extensions of credit secured by margin stock. The comment period for this notice expired on December 13, 2010. The Federal Reserve did not receive any comments.

Final approval under OMB delegated authority of the extension for three years, with clarification, of the following reports:

Report titles: Registration Statement for Persons Who Extend Credit Secured by Margin Stock (Other Than Banks, Brokers, or Dealers), Deregistration Statement for Persons Registered Pursuant to Regulation U, Statement of Purpose for an Extension of Credit Secured by Margin Stock by a Person Subject to Registration Under Regulation U; Annual Report, and Statement of Purpose for an Extension of Credit Secured by Margin Stock.

Agency form numbers: FR G-1, FR G-2, FR G-3, FR G-4, and FR U-1.

OMB control numbers: 7100-0011: FR G-1, FR G-2, and FR G-4; 7100-0018: FR G-3; and 7100-0115: FR U-1.

Frequency: On occasion and annual.

Reporters: Individuals and business.

Annual reporting hours: 1,207 reporting hours; 1,604 recordkeeping hours.

Estimated average hours per response: FR G-1, 2.5 hours; FR G-2, 15 minutes; FR G-3, 10 minutes; FR G-4, 2.0 hours; and FR U-1, 10 minutes.

Number of respondents: FR G-1, 25; FR G-2, 40; FR G-3, 284; FR G-4, 567; and FR U-1, 50.

General description of report: These mandatory information collections are authorized by section 7 of the '34 Act (15 U.S.C. 78g). In addition, the FR U-1 is required by Sections 221.3(c)(1)(i) and (2)(i) of Regulation U (12 CFR 221.3(c)(1)(i) and (2)(i)), and the FR G-1, G-2, G-3, and G-4 are required by Sections 221.3(b)(1), (2), and (3), and (c)(1)(ii) and (2)(ii) of Regulation U (12 CFR 221.3(b)(1), (2), and (3), and (c)(1)(ii) and (2)(ii)).

The information collected in the FR G-1 and the FR G-4 is given confidential treatment under the Freedom of Information Act (5 U.S.C. 552 (b)(4) and (6)). Confidentiality determinations would have to be made on a case by case basis. The FR G-2 does not collect confidential information. The FR U-1 and FR G-3 data are not submitted to the Federal Reserve System and, as such, no issue of confidentiality arises.

Abstract: The Securities Exchange Act of 1934 authorizes the Federal Reserve to regulate securities credit extended by brokers and dealers, banks, and other lenders. The purpose statements, FR U-1 and FR G-3, are recordkeeping requirements for brokers and dealers, banks, and other lenders, respectively, to document the purpose of their loans secured by margin stock. Margin stock is defined as (1) stocks that are registered on a national securities exchange or any over-the-counter security designated for trading in the National Market System, (2) debt securities (bonds) that are convertible into margin stock, and (3) shares of most mutual funds. Lenders other than brokers and dealers and banks must register and deregister with the Federal Reserve using the FR G-1 and FR G-2, respectively, and they must file the FR G-4 annual report while registered. The Federal Reserve uses the data to identify lenders subject to Regulation U, to verify their compliance with the regulation, and to monitor margin credit.

Current Actions: On October 14, 2010, the Federal Reserve published a notice in the Federal Register (75 FR 63181) requesting public comment for 60 days on the extension, with clarification, of three of the six mandatory reports that collect information on certain extensions of credit secured by margin stock. The comment period for this notice expired on December 13, 2010. The Federal Reserve did not receive any comments. The clarifications will be implemented as proposed.

Board of Governors of the Federal Reserve System, December 22, 2010.
Jennifer J. Johnson,
Secretary of the Board.

[FR Doc. 2010-32590 Filed 12-27-10; 8:45 am]

BILLING CODE 6210-01-P